DEPARTMENT OF JUSTICE

Drug Enforcement Administration

Manufacturer of Controlled Substances, Notice of Application, Nektar Therapeutics

Pursuant to § 1301.33(a), Title 21 of the Code of Federal Regulations (CFR), this is notice that on August 16, 2013, Nektar Therapeutics, 1112 Church Street, Huntsville, Alabama 35801, made application by renewal to the Drug Enforcement Administration (DEA) to be registered as a bulk manufacturer of Fentanyl (9801), a basic class of controlled substance listed in schedule II.

The company plans to manufacture the listed controlled substance in support of product development.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODW), 8701 Morrissette Drive, Springfield, Virginia 22152; and must be filed no later than December 24, 2013.

Dated: September 27, 2013.
Joseph T. Rannazzisi,
Deputy Assistant Administrator, Office of Diversion Control, Drug Enforcement Administration.

[FR Doc. 2013-25079 Filed 10-24-13; 8:45 am]

BILLING CODE 4410-09-P